DEPARTMENT OF AGRICULTURE

Forest Service

Plan Revision for Prescott National Forest, Yavapai and Coconino Counties, AZ

AGENCY: Forest Service, USDA.

ACTION: Notice of intent to revise Land and Resource Management Plan.

SUMMARY: As directed by the National Forest Management Act, the USDA Forest Service is revising the Prescott National Forest Land and Resource Management Plan (Forest Plan) and will also prepare an environmental impact statement for this revised plan. This notice briefly describes the nature of the decision to be made, the need for change and proposed action, and information concerning public participation. It also provides estimated dates for filing the environmental impact statement, the names and addresses of the responsible agency official, and the individuals who can provide additional information. Finally, this notice briefly describes the applicable planning rule and how work done on the plan revision under the 2008 planning rule will be used or modified for completing this plan revision.

The Prescott National Forest revised Forest Plan will supersede the land management plan previously approved by the Regional Forester on August 4, 1987, and amended 17 times from 1988 to 2008. Four of those amendments addressed project specific needs and the balance addressed programmatic needs. Programmatic needs for amendment included direction for habitat conservation for selected species, designation of a botanical area, treatment of noxious weeds, changes in utility corridor locations, clarification of grazing capacity, and adjustments to Prescott National Forest travel management policy. This amended Plan will remain in effect until the revision takes effect.

DATES: Comments concerning the need for change provided in this notice will be most useful in the development of the draft revised plan and draft environmental impact statement if received by February 15, 2010. The agency expects to release a draft revised plan and draft environmental impact statement for formal comment near the end of calendar year 2010 and a final revised plan and final environmental impact statement near the end of calendar year 2011.

ADDRESSES: Send written comments to: Prescott National Forest, Attn: Forest Plan Revision Team, 344 South Cortez Street, Prescott, Arizona 86303. Comments may also be sent via e-mail by using the “Contact Us” page on the Prescott National Forest planning Web site: http://www.fs.fed.us/r3/prescott/plan-revisionlget-involved.shtml.

FOR FURTHER INFORMATION CONTACT: Sally Hess-Samuelson, Forest Planner, Prescott National Forest, 344 South Cortez Street, Prescott, Arizona 86303, shesssamuelson@fs.fed.us, 928-443-8216. Information on this revision is also available at Prescott National Forest revision Web site: http://www.fs.fed.us/r3/prescott/plan-revisionhindex.shtml.

Individuals who use telecommunication devices for the deaf (TDD) may call the Federal Information Relay Service (FIRS) at 800-877-8339 between 8 AM and 8 PM, Eastern Time Monday through Friday.

SUPPLEMENTARY INFORMATION:

Name and Address of the Responsible Official

The responsible official is Corbin Newman, Regional Forester, Southwestern Region, 333 Broadway SE, Albuquerque, NM 87102.

Nature of the Decision To Be Made

The Forest Plan provides guidance for all resource management activities on the Prescott National Forest. Approval of the revised Forest Plan will result in the following plan components to guide management for the next 10 to 15 years:

• Goals/desired conditions;

• Objectives;

• Forest-wide standards and guidelines;

• Management area desired conditions, standards, and guidelines;

• Suitability of lands for timber production, grazing, and recreation opportunities;

• Monitoring and evaluation requirements; and

• Recommendations may be made for special areas, such as Research Natural Areas, or areas that can only be designated by statute, such as Wilderness.

Goals/desired conditions provide a description of desired outcomes of forest management. Objectives provide projections of measurable outcomes intended to promote achievement of Forest Plan goals/desired conditions. Forest-wide standards and guidelines provide management direction and guidance that is applicable across the Prescott National Forest. Management Area desired conditions, standards, and guidelines provide direction that applies to specific geographic areas within the Prescott National Forest. Identification of characteristics of lands where timber production, grazing, and recreation opportunities are suitable provides integration between particular uses and desired conditions and objectives for areas on the National Forest. Monitoring and evaluation indicates whether areas are trending toward goals/desired conditions so that needed adjustments can be made in the future. Special areas are places or areas within the National Forest System designated because of their unique or special characteristics. Some can be designated by the responsible official, such as a Botanical Area. Others, such as Wilderness or Wild and Scenic River designations, are recommended for designation by the responsible official, but Congressional act designates.

An environmental impact statement will be prepared that informs the Regional Forester so that he can decide which alternative set of plan components best meets the need to achieve quality land management under the sustainable multiple-use management concept and to meet the diverse needs of people, while protecting the resources of the Prescott National Forest, as required by the National Forest Management Act (NFMA) and the Multiple Use Sustained Yield Act.

The scope of this decision is limited to revisiting those portions of the current Forest Plan that need modification, correction, or creation of direction that is lacking. We expect to focus on areas identified as being most critically in need of change. Identification of the types of decisions that will not be made within the plan can be as important as knowing the decisions to be made. The authorization of project-level activities on the forests is not a decision made in the Forest Plan but occurs through subsequent project-specific decision-making. Designation of routes, trails, and areas for motorized vehicle travel has been documented in the 2009 Motorized Vehicle Use Map. Adjustments to the routes shown on the map are expected to be addressed in separate analyses and were not identified as a Need for Change in the Forest Plan. Some issues (e.g., hunting regulations), although important, are beyond the authority or control of the Prescott National Forest and will not be considered. In addition, some issues, such as wild and scenic river suitability determinations, may not be undertaken at this time, but addressed later as a future Forest Plan amendment.

Need for Change and Proposed Action

The current Forest Plan is over 20 years old. Changes have taken place during that time based on changed economic, social, and ecological conditions; new policies and priorities; and new information based on monitoring and scientific research. Changes made during plan revision will be focused on three priority needs for change and two secondary needs for change. The three priority needs are (1) restore vegetation, structure, composition, and desired characteristics of fire to selected ecosystems, while responding to citizen concerns related to smoke emissions; (2) retain or improve watershed integrity to provide desired water quality, quantity and timing of delivery; and (3) provide sustainable and diverse recreation experiences that consider population demographic characteristics, reflect desires of local communities, avoid overcrowding and user conflicts, and minimize resource damage. Two other secondary needs were selected to be addressed with Forest Plan components and will likely be addressed as parts of the priority needs for change. They are: (a) Provide desired habitat for native fish species; and (b) enhance the value of open space provided by the Prescott National Forest by defining visual character within areas near or viewed by those in local communities. These needs are not adequately addressed in the current Forest Plan. Priority and secondary needs for change and means of addressing those needs during plan revision are described below:

1. Restore vegetation, structure, composition, and desired characteristics of fire to selected ecosystems, while responding to citizen concerns related to smoke emissions. In order to improve ecological health and sustainability within several plant communities, vegetation structure (arrangement of vegetation) and composition (types of vegetation species) need to be modified to more closely resemble the range of conditions that historically occurred.

The revised Forest Plan will define desired vegetative characteristics including: Desired species composition and vegetative transitions due to disturbances; structural characteristics such as spacing of shrub patches or tree groups and density of trees; and disturbance patterns such as frequency, severity, intensity, size and seasonality of fire. By trending toward defined desired conditions, the following situations will begin to be addressed: (a) Risk of severe uncharacteristic wildfires that damage soils and impact human health and safety, (b) changes in ecosystems that could affect diversity of plant and animal species such as the spread of invasive plant species, (c) infrequent fire occurrences that do not emulate historic characteristics within some ecosystems. Objectives will focus attention on high priority areas for restoration activities such as thinning, planned burning, or treatment of invasive plant species. Guidelines will provide direction for use of restoration methods other than traditional thinning and planned burns in areas where possible impacts to species are not acceptable. In collaboration with citizens, Management Area direction will identify areas where fuel reduction activities other than burning will be emphasized, such as near structures or close to communities.

2. Retain or Improve watershed integrity to provide desired water quality, quantity, and timing of delivery. Watershed integrity is the completeness of watershed function in providing water quality, quantity and timing of delivery. It is influenced by soil function, biological function and geomorphology. Vegetative structure and composition, disturbance regimes and recreation activities all can affect watershed integrity.

The revised Forest Plan will describe desired characteristics of watersheds including: Soil and vegetation characteristics in uplands and in areas near streams, water bodies, and ground water dependent ecosystems; desired water quality characteristics and other characteristics of healthy watersheds. Standards and guidelines will be developed for sensitive areas to provide guidance for recreational activities, vegetation utilization, and vegetative ground cover within those areas. Addressing this need will move toward maintaining water quality and quantity for municipal watersheds and for aquatic and riparian species habitat, and will provide timing of delivery that is commensurate with healthy soil, biological function, and natural geomorphology.

3. Provide sustainable and diverse recreation experiences that consider population demographic characteristics, reflect desires of local communities, avoid overcrowding and user conificts, and minimize resource damage. Providing sustainable recreation opportunities was the number one concern at public meetings held early in 2009. With increasing populations and numbers of visitors to the Prescott National Forest, conflicts between types of activities, overcrowding, and over-use leading to resource impacts need to be addressed.

Numbers of recreationists on the Prescott National Forest have increased in recent years, both from increases in local population and from influx of visitors from the Phoenix metropolitan area. This has increased the potential for creating conflicts among all recreationists and leads to unmet recreational experience expectations. The increase in recreational use also interacts with ecosystems such as causing changes in habitat, wearing away vegetation, and spreading seeds of non-native plant species to new locations.

The revised Forest Plan will describe forest-wide desired conditions for recreation experiences and for interactions between recreational activities and ecosystems. Management area boundaries will be adjusted to reflect geographically contiguous areas so that strategies can be developed to better respond to desires of people who reside in or feel connected to specific areas within the Prescott National Forest. Management area guidance will include description of goals/desired conditions as well as standards and guidelines to mitigate or help control conflicts between people and the environment or among recreationists. Addressing this need will help visitors know where to find the experience they desire and will better address impacts of recreation use.

Two secondary needs for change were selected to be addressed with Forest Plan components.

(a) Provide desired habitat for native fish species. Native fish and other aquatic species are in decline within several watersheds. Native aquatic species are no longer found in five watersheds that overlap with the Prescott National Forest. The Prescott National Forest can provide habitat and watershed characteristics that will support native fish species. The Forest could also cooperate with the State of Arizona in addressing control of non-native species.

Desired conditions will be developed that describe desired aquatic habitat including stream flows, vegetation, and water quality at a Forest-wide scale. Standards and guidelines will be developed to help aquatic characteristics trend toward desired conditions.

(b) Enhance the value of open space provided by the Prescott National Forest by defining the visual character within areas near or viewed by those in local communities. The high rate of population growth within Yavapai County combined with limited lands for development sensitizes residents to land development, land exchange, and land use issues. The Prescott National Forest has an opportunity via the Forest Plan to ensure that scenic values are taken into consideration as population density is expected to increase on other ownerships. Defining the value of Prescott National Forest open space will help to display the benefit these lands play in local communities, should land exchange be proposed.

A new inventory of scenic values has been completed and desired conditions, standards, and guidelines will be developed based on scenic values of landscapes. Other Revision Changes. Some components of the current Forest Plan are still adequate and timely; these will be carried forward into the revised Forest Plan.

Other components of the current Forest Plan will be modified or removed, for reasons including: they describe a purely administrative or procedural function; they duplicate direction that can be found in existing law, regulation, or Forest Service policy; they are based on outdated policies, science, or information; or they include out-of-date terminology. In addition, some standards and guidelines in the existing Forest Plan: May be unnecessarily prescriptive about how to accomplish a project, instead of focusing on the project outcome; do not support attaining desired conditions or accomplishing objectives; or are duplicative. Finally, portions of monitoring and evaluation guidance in the current Forest Plan focus on outputs rather than on progress toward attainment of goals/desired conditions.

Public Involvement

The Prescott National Forest has taken a collaborative approach in preparation for Forest Plan Revision. Rather than sponsoring several public meetings focused on plan revision, we engaged citizens in planning and ongoing stewardship of the forest. This included inviting citizens to share their desires for the future and invent new ways to support and sustain stewardship. Methods used include human geographic mapping, gaining understanding of informal community networks, reaching out to informal community leaders, and encouraging development of community visions. More standard methods that were used included public meetings in February of 2009 to discuss needs for change, use of the Prescott National Forest Web page to provide information and offer feedback forms, and face to face and written communication with tribal entities. Information gathered from the public as well as science-based assessments were used to determine the need for change identified above.

We will continue efforts to have meaningful consultation and collaboration with tribal nations on a government-to-government basis. The Prescott National Forest also wants to continue collaborative efforts with members of the public as well as federal and state agencies, local governments and private organizations.

Continued public participation at multiple meetings sponsored by local groups or multi-interest organizations will take place throughout the winter and spring of 2010 to develop the proposed plan and alternatives. Public meetings are expected during the summer of 2010 to integrate and share the results of these efforts. Dates, times and locations of these meetings will be posted on the Prescott National Forest planning Web site as well as via community bulletin boards, e-mail announcements, and through community networks. The information gathered will be combined with other feedback to refine needs for change, if necessary, develop the proposed plan, and prepare the draft environmental impact statement. Once a draft environmental impact statement is published, formal comment periods will allow for comment on the proposed plan and the content of the EIS.

At this time, the Prescott National Forest is seeking input on its needs for change and proposals to address those needs. In particular, did we miss any important issues or concerns?

It is important that reviewers provide their comments at such times and in such a way that they are useful to the Agency's preparation of the revised plan and the EIS. Therefore, comments on the needs for change will be most valuable if received by February 15, 2010 and should clearly articulate the reviewers' concerns. The submission of timely and specific comments can affect a reviewer's ability to participate in subsequent administrative or judicial review. At this time, we anticipate using the 2000 planning rule pre-decisional objection process (36 CFR 219.32) for administrative review. Comments received in response to this solicitation, including the names and addresses of those who comment will be part of the public record. Comments submitted anonymously will be accepted and considered.

Applicable Planning Rule

Preparation of the revised plan was underway when the 2008 National Forest System land management planning rule was enjoined on June 30, 2009, by the United States District Court for the Northern District of California (Citizens for Better Forestry v. 12 United States Department of Agriculture, 632 F. Supp. 2d 968 (N.D. Cal. June 30, 2009)). On December 18, 2009 the Department reinstated the previous planning rule, commonly known as the 2000 planning rule in the Federal Register (Federal Register, Volume 74, No. 242, Friday, December 18, 2009, pages 67059 thru 67075). The transition provisions of the reinstated rule (36 CFR 219.35 and appendices A and B) allow use of the provisions of the National Forest System land and resource management planning rule in effect prior to the effective date of the 2000 Rule (November 9, 2000), commonly called the 1982 Planning Rule, to amend or revise plans. The Prescott National Forest has elected to use the provisions of the 1982 Planning Rule, including the requirement to prepare an environmental impact statement, to complete its plan revision. In December of 2009, we prepared the Analysis of the Management Situation (AMS) that summarized social, economic, and ecological conditions and trends in and around the Prescott National Forest, identified initial needs for change, integrated needs for change, and along with public input, identified where the current Forest Plan provides inadequate or, in some cases unnecessary guidance for the present and future. The AMS was prepared using the provisions of the 1982 planning rule and is found on the Prescott National Forest planning Web site (See section called FOR FURTHER INFORMATION near the beginning of this notice for web link).

Although the 2008 planning rule is no longer in effect, information gathered prior to the court's injunction is useful for completing the plan revision using the provisions of the 1982 planning rule. The Prescott National Forest has concluded that the analyses begun or developed during the plan revision process to date are appropriate for continued use in the revision process. The ongoing inventory and evaluation of potential wilderness areas and the Draft Upper Verde River Eligibility Report Update for the National Wild and Scenic River System have been underway since 2008, are consistent with appropriate provisions of the 1982 planning rule, and will be brought forward into this plan revision process. Other reference reports that were used to prepare the Analysis of the Management Situation are listed below and will be brought forward in the plan revision process. Prior to the injunction of the 2008 Planning Rule, we had taken the following steps in preparation for plan revision:

• Identified characteristics of communities near and within Prescott National Forest boundaries. Worked toward understanding the citizens within the community by encouraging each community to develop a vision for the landscape to which they were connected. Community visions can be found on the Prescott National Forest planning Web page (For Web link, see section labeled FOR FURTHER INFORMATION near the beginning of this notice).

• Developed an Ecological Sustainability Report (2009) to provide information on the biological and physical environment of the Prescott National Forest and surrounding area. The diversity of ecosystems and species known to occur within the Prescott National Forest were profiled along with identification of existing threats and associated risks to long-term sustainability of those ecosystems and species. Ecological concerns identified helped to highlight specific elements of the current Forest Plan that may need to be changed. The Ecological Sustainability Report (ESR) will continue to be used as a reference in the planning process as appropriate to those items in conformance with the 2000 planning rule transition language and 1982 planning rule provisions. This is scientific information and is not affected by the change of planning rule. This information will be updated with any new available information (For Web link, see section labeled FOR FURTHER INFORMATION near the beginning of this notice).

• Described the social and economic relationship between the Prescott National Forest and surrounding communities, in the document titled Prescott National Forest Economic and Social Sustainability Assessment (2008). It assists us in understanding the relationship between National Forest lands and surrounding communities and acts as an aid in identifying specific elements of the current Forest Plan that may need to be changed. The Economic and Social Sustainability Report was completed in 2008, is not affected by the change in planning rule, and will continue to be used as a reference in the planning process. This information will be updated with any new available information (For Web link, see section labeled FOR FURTHER INFORMATION near the beginning of this notice).

Several assessments, such as those listed below, were also prepared before the 2008 planning rule was enjoined. Each includes scientific information and is not affected by the change of planning rule. In each case information may be updated with any new available information. Both documents can be found at the following location: http://www.fs.fed.us/r3/plan-revisionlassess/pres/index.shtml.

• The Socioeconomic Assessment of the Prescott National Forest (2005) provides information based on existing secondary data, for example, county and state economic data, U.S. Census data, and a wide range of data from Forest Service databases.

• Attitudes, Beliefs and Values Toward National Forest System Lands: The Prescott National Forest (2006) documented a focus group study that provides information about attitudes, beliefs and values related to forest management and resources. As necessary or appropriate, the above listed material will be further adjusted as part of the planning process using the provisions of the 1982 planning rule.

(Authority: 16 U.S.C. 1600-1614; 36 CFR 219.35 (74 FR 67073-67074))

Dated January 8, 2010.
Alan Quan,
Forest Supervisor.

[FR Doc. 2010-642 Filed 1-15-10; 8:45 am]

BILLING CODE 3410-11-M